DEPARTMENT OF HEALTH AND HUMAN SERVICES

Substance Abuse and Mental Health Services Administration

Call for Nominations for the Non-Federal Members of the Interdepartmental Serious Mental Illness Coordinating Committee (ISMICC)

AGENCY: Substance Abuse and Mental Health Services Administration, HHS.

ACTION: Notice.

SUMMARY: The Secretary of Health and Human Services, in accordance with the 21st Century Cures Act, is seeking nominations for the non-federal members of the ISMICC.

FOR FURTHER INFORMATION CONTACT: Pamela Foote, Substance Abuse and Mental Health Services Administration, 5600 Fishers Lane, 14E53C, Rockville, MD 20857; telephone: 240-276-1279; email: pamela.foote@samhsa.hhs.gov.

SUPPLEMENTARY INFORMATION:

I. Background and Authority

The ISMICC is established in accordance with section 6031 of the 21st Century Cures Act, and the Federal Advisory Committee Act, 5 U.S.C. App., as amended, to report to the Secretary, Congress, and any other relevant federal department or agency on advances in serious mental illness (SMI) and serious emotional disturbance (SED), research related to the prevention of, diagnosis of, intervention in, and treatment and recovery of SMI, SED, and advances in access to services and support for adults with SMI or children with SED. In addition, the ISMICC will evaluate the effect that federal programs related to serious mental illness have on public health, including public health outcomes such as (A) rates of suicide, suicide attempts, incidence and prevalence of SMIs, SEDs, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary. Finally, the ISMICC will make specific recommendations for actions that agencies can take to better coordinate the administration of mental health services for adults with SMI or children with SED. Not later than 1 (one) year after the date of enactment of the 21st Century Cures Act, and 5 (five) years after such date of enactment, the ISMICC shall submit a report to Congress and any other relevant federal department or agency.

II. Committee Composition

The ISMICC will consist of federal members listed below or their designees and non-federal public members.

Federal Membership: The ISMICC will be composed of the following federal members or their designees:

• The Secretary of Health and Human Services;

• The Assistant Secretary for Mental Health and Substance Use;

• The Attorney General;

• The Secretary of the Department of Veterans Affairs;

• The Secretary of the Department of Defense;

• The Secretary of the Department of Housing and Urban Development;

• The Secretary of the Department of Education;

• The Secretary of the Department of Labor;

• The Administrator of the Centers for Medicare and Medicaid Services; and

• The Commissioner of the Social Security Administration.

In accordance with the Committee's authorizing statute, the Committee shall also “include not less than 14 non-Federal public members appointed by the Secretary of Health and Human Services.” 21st Century Cures Act, section 6031(e)(2).

All non-Federal public members are appointed as Special Government Employees for their service on the ISMICC, of which:

(A) At least 2 members shall be an individual who has received treatment for a diagnosis of a serious mental illness;

(B) At least 1 member shall be a parent or legal guardian of an adult with a history of a serious mental illness or a child with a history of a serious emotional disturbance;

(C) At least 1 member shall be a representative of a leading research, advocacy, or service organization for adults with a serious mental illness;

(D) At least 2 members shall be—

(i) A licensed psychiatrist with experience in treating serious mental illnesses;

(ii) A licensed psychologist with experience in treating serious mental illnesses or serious emotional disturbances;

(iii) A licensed clinical social worker with experience treating serious mental illnesses or serious emotional disturbances; or

(iv) A licensed psychiatric nurse, nurse practitioner, or physician assistant with experience in treating serious mental illnesses or serious emotional disturbances;

(E) At least 1 member shall be a licensed mental health professional with a specialty in treating children and adolescents with a serious emotional disturbance;

(F) At least 1 member shall be a mental health professional who has research or clinical mental health experience in working with minorities;

(G) At least 1 member shall be a mental health professional who has research or clinical mental health experience in working with medically underserved populations;

(H) At least 1 member shall be a State certified mental health peer support specialist;

(I) At least 1 member shall be a judge with experience in adjudicating cases related to criminal justice or serious mental illness;

(J) At least 1 member shall be a law enforcement officer or corrections officer with extensive experience in interfacing with adults with a serious mental illness, children with a serious emotional disturbance, or individuals in a mental health crisis; and

(K) At least 1 member shall have experience providing services for homeless individuals and working with adults with a serious mental illness, children with a serious emotional disturbance, or individuals in a mental health crisis.

The Department strives to ensure that the membership of HHS federal advisory committees is fairly balanced in terms of points of view represented and the committee's function. Every effort is made to ensure that the views of women, all ethnic and racial groups, sexual and gender minorities and people with disabilities are represented on HHS Federal advisory committees and, therefore, the Department encourages nominations of qualified candidates from these groups. The Department also encourages geographic diversity in the composition of the Committee. Appointment to the ISMICC shall be made without discrimination on the basis of age, race, ethnicity, gender, sexual orientation, gender identity, disability, and cultural, religious, or socioeconomic status. Requests for reasonable accommodation to enable participation on the Committee should be indicated in the nomination submission.

III. Who is eligible?

Nominations for non-federal public members are encouraged, and self-nominations are permitted as well. Only one nomination per individual is required. Multiple nominations for the same individual will not increase likelihood of selection. The Secretary may select non-federal public members from the pool of submitted nominations or other sources as needed to meet statutory requirements and to form a balanced committee that represents the diversity within the population of individuals with SMI or SED. Those eligible for nomination include representatives of leading major SMI or SED research, advocacy and service organizations, parents or guardians of individuals with a serious mental illness or serious emotional disturbance, individuals who have received treatment for a diagnosis of a serious mental illness, a licensed psychiatrist, psychologist, clinical social worker, marriage and family therapist, licensed professional counselor, psychiatric nurse, nurse practitioner, or physician assistant with experience in treating SMI or SED, other licensed mental health professionals, criminal justice professionals, researchers and other individuals with professional or personal experience with a SMI or SED. Those eligible for nomination also include mental health professionals with research or clinical experience with minorities or underserved populations, certified peer support specialists, judges with experience related to criminal justice or SMI, law enforcement or corrections officers with experience in SMI and SED, and individuals with experience providing services for homeless individuals, adults with SMI and children with SED. In accordance with White House Office of Management and Budget guidelines (FR Doc. 2014-19140), federally-registered lobbyists are not eligible.

IV. Responsibilities of Appointed Non-Federal Public Members

As specified in the Committee's authorizing statute (section 6031 of the 21st Century Cures Act), the Committee, not later than 1 year after the date of enactment of this Act, and 5 years after such date of enactment, shall submit to Congress and any other relevant Federal department or agency a report including: (1) A summary of advances in serious mental illness and serious emotional disturbance research related to the prevention of, diagnosis of, intervention in, and treatment and recovery of serious mental illnesses, serious emotional disturbances, and advances in access to services and support for adults with a serious mental illness or children with a serious emotional disturbance; (2) an evaluation of the effect that Federal programs related to serious mental illness have on public health, including public health outcomes such as (A) rates of suicide, suicide attempts, incidence and prevalence of serious mental illnesses, serious emotional disturbances, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary; and; (3) specific recommendations for actions that agencies can take to better coordinate the administration of mental health services for adults with a serious mental illness or children with a serious emotional disturbance.

V. Member Terms

A member of the Committee appointed under subsection (e)(2), non-federal, shall serve for a term of 3 years, and may be reappointed for 1 or more additional 3-year terms. Any member appointed to fill a vacancy for an unexpired term shall be appointed for the remainder of such term. A member may serve after the expiration of the member's term until a successor has been appointed.

VI. Meetings

The ISMICC shall meet not fewer than 2 times each year.

VII. Submission Instructions and Deadline

Nominations should include: A cover letter and a current curriculum vitae or resume. Cover letters should be no longer than 3 pages, indicate which slot/slots the individual is applying for, describe relevant personal and professional experience with serious mental illness or serious emotional disturbance, and indicate their contact information. Up to 2 letters of support are permitted in addition to the nomination, with a page limit of 3 pages per letter. Please do not include other materials unless requested.

Nominations are due June 2, 2017, by midnight eastern daylight time, and may be sent to Pamela Foote, Substance Abuse and Mental Health Services Administration, 5600 Fishers Lane, 14E53C, Rockville, MD 20857; email: pamela.foote@samhsa.hhs.gov by standard or express mail, or via email:

Carlos Castillo,
Committee Management Officer.

[FR Doc. 2017-10616 Filed 5-23-17; 8:45 am]

BILLING CODE 4162-20-P